EXPORT-IMPORT BANK OF THE U.S.

[Public Notice 2012-122]

Agency Information Collection Activities: Final Collection; Comment Request

AGENCY: Export-Import Bank of the U.S.

ACTION: Submission for OMB Review and Comments Request.

Form Title: Application for Approved Finance Provider (EIB 10-06).

SUMMARY: The Export-Import Bank of the United States (Ex-Im Bank), as a part of its continuing effort to reduce paperwork and respondent burden, invites the general public and other Federal Agencies to comment on the proposed information collection, as required by the Paperwork Reduction Act of 1995.

Ex-Im Bank has made the following changes to this form:

Under Approved Finance Provided add the following programs:

Master Guarantee Agreement—Working Capital Guarantee Credits

Global Credit Express—Originating Lender

Other (please specify)

Under Required Supplemental Information paragraph d—changed to read:

d. Description of Applicant's trace finance and or commercial lending or asset based lending experience and a description of said experience of each member of senior management and each person who will be responsible for the Ex-Im Bank relationship, including each person who will sign the MGA (if one is being requested) or other documents to be submitted to Ex-Im Bank.

Updated all Certifications and Notices as needed.

The Application for Approved Finance Provider will be used to determine if the finance provider has the financial strength and administrative staff to originate, administer, collect, and if needed, restructure international loans. This application will also improve Ex-Im Bank' s compliance with the Open Government initiative by providing transparency into specific information used to determine if an applicant is qualified to use our loan guarantee programs. Export-Import Bank potential finance providers will be able to submit this form on paper. In the future, we will consider allowing the submission of this information electronically.

This application can be viewed at www.exim.gov/pub/pending/EIB10_06.pfd.

DATES: Comments should be received on or before December 28, 2012.

ADDRESSES: Comments maybe submitted electronically on WWW.REGULATIONS.GOV or by mail to Jeffrey Abramson, Export-Import Bank of the United States, 811 Vermont Ave. NW., Washington, DC 20571.

SUPPLEMENTARY INFORMATION: Titles and Form Number: EIB 10-06 Application for Approved Finance Provider.

OMB Number: 3048-0032.

Type of Review: Regular.

Need and Use: The Application for Approved Finance Provider will be used to determine the financial and administrative capabilities of a financial provider who will arrange, fund and administer international loans.

Annual Number of Respondents: 50.

Estimated Time per Respondent: 3 hours.

Total Respondent time: 150 hours.

Government Annual Burden Hours: 100 hours.

Frequency of Reporting or Use: Yearly.

Cost to the Government: $4,160.

Sharon A. Whitt,
Agency Clearance Officer.

[FR Doc. 2012-26508 Filed 10-26-12; 8:45 am]

BILLING CODE 6690-01-P